ENVIRONMENTAL PROTECTION AGENCY

[EPA-HQ-OLEM-2022-0967; FRL-10468-01-OLEM]

Proposed Variances from the Classification of Solid Waste for HVF Precious Metals, LLC (Tucson, AZ)

AGENCY: Environmental Protection Agency (EPA).

ACTION: Notice of tentative decision.

SUMMARY: The Environmental Protection Agency (EPA) is proposing to grant a petition for variances from the classification as solid waste for two materials produced by HVF Precious Metals, LLC (HVF) at its facility in Tucson, Arizona.

DATES: Comments must be received on or before March 30, 2023.

ADDRESSES: Submit your comments, referencing Docket ID No. EPA-HQ-OLEM-2022-0967 to:

• Federal eRulemaking Portal: https://www.regulations.gov/ (our preferred method). Follow the online instructions for submitting comments.

• Mail: U.S. Environmental Protection Agency, EPA Docket Center, Office of Land and Emergency Management Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this action. Comments received may be posted without change to https://www.regulations.gov/, including any personal information provided. For detailed instructions on sending comments and additional information on the rulemaking process, see the “Public Participation” heading of the SUPPLEMENTARY INFORMATION section of this document.

FOR FURTHER INFORMATION CONTACT: For further information regarding the Federal Register notice, contact Phoebe O'Connor, Office of Resource Conservation and Recovery, Office of Land and Emergency Management, (5304T), U.S. Environmental Protection Agency, 1200 Pennsylvania Avenue NW, Washington, DC 20460; telephone number: (202) 566-1451; email address: Oconnor.phoebe@epa.gov.

For further information regarding the incoming petition, Statement of Basis, and any technical questions, contact Amanda Cruz, RCRA Branch; Land, Chemicals, and Redevelopment Division, U.S. Environmental Protection Agency Region 9, 75 Hawthorne Street, (Mail code LND-4-2), San Francisco, CA 94105; telephone number: (415) 972-3084; email address: cruz.amanda@epa.gov.

SUPPLEMENTARY INFORMATION:

I. Public Participation

A. Written Comments

Submit your comments, identified by Docket ID No. EPA-HQ-OLEM-2022-0967 at https://www.regulations.gov (our preferred method), or the other methods identified in the ADDRESSES section. Once submitted, comments cannot be edited or removed from the docket. The EPA may publish any comment received to its public docket. Do not submit to EPA's docket at https://www.regulations.gov any information you consider to be Proprietary Business Information (PBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about PBI or multimedia submissions, and general guidance on making effective comments, please visit https://www.epa.gov/dockets/commenting-epa-dockets.

II. Background

Section 260.30(c) allows the EPA Administrator to determine on a case-by-case basis that materials that have been reclaimed but must be further reclaimed before the materials are fully recovered are not solid wastes. The effect of a variance from the classification of solid waste is to exempt the material from RCRA hazardous waste regulations. The EPA's proposal responds to a petition submitted by HVF on July 26, 2022 (HVF's Petition). HVF's Petition concerns two partially-reclaimed materials (“Solution Sweeps” and “Filter Sweeps”) produced at its Tucson, Arizona facility from precious metal-bearing waste from cyanide-based electroplating operations. As explained in the “Statement of Basis” available in the docket [Docket ID EPA-HQ-OLEM-2022-0967-0001], EPA's preliminary determination is that the two materials produced by HVF are “commodity-like” under the criteria listed in § 260.31(c) and are legitimately recycled, thus qualifying for variances from classification as solid waste under § 260.30(c). The EPA seeks comment on the environmental justice impacts of this proposed variance.

For information on The EPA's rationale for granting the petition, see the attached “Statement of Basis” available in the docket [Docket ID EPA-HQ-OLEM-2022-0967-0001].

Michael S. Regan,
Administrator.

[FR Doc. 2023-02555 Filed 2-10-23; 8:45 am]

BILLING CODE 6560-50-P